FEDERAL COMMUNICATIONS COMMISSION

Network Reliability and Interoperability Council

AGENCY: Federal Communications Commission.

ACTION: Notice; cancellation of public meeting.

SUMMARY: In accordance with the Federal Advisory Committee Act, 5 U.S.C. App. 2, Public Law 92-463, as amended, this notice advises interested persons that the meeting of the Network Reliability and Interoperability Council scheduled for June 13, 2003 has been cancelled.

FOR FURTHER INFORMATION CONTACT: Jeffery Goldthorp at 202-418-1096, TTY 202-418-2989, or e-mail Jeffery.Goldthorp@fcc.gov.

Federal Communications Commission.
William F. Caton,
Deputy Secretary.

[FR Doc. 03-14741 Filed 6-10-03; 8:45 am]

BILLING CODE 6712-01-P